CHEMICAL SAFETY AND HAZARD INVESTIGATION BOARD

Sunshine Act Meeting

The United States Chemical Safety and Hazard Investigation Board announces that it will convene a Public Meeting beginning at 9:30 a.m. local time on January 19, 2001, at 2175 K Street, Second floor (Conference rooms of the Medical Society of the District of Columbia) Washington, DC. Topics will include:

1. Update on reactive chemical hazard investigation.

2. Update on CSB investigation into the February 23, 1999, fire that occurred at the fractionator tower in the 50 crude oil processing unit at the Tosco “Avon” refinery in Martinez, California.

3. Safety Bulletins: Management of Change—Discussion of Process for resolution of: (1) Condea Vista, Equilon, Sonat II; (2) Concept Sciences; (3) Independence Fireworks.

4. Data collection issues and developments.

5. Update on the CSB Hiring Plan Initiative.

6. Board Initiatives with other Federal agencies.

8. CSB budget for FY 2001.

9. Tentative date for next Board meeting.

The meeting will be open to the public. Please notify CSB if a translator or interpreter is needed, 10 business days prior to the public meeting. For more information, please contact the Chemical Safety and Hazard Investigation Board's Office of External Relations, (202)-261-7600, or visit our website at: http://www.csb.gov.

Christopher W. Warner,
General Counsel.

[FR Doc. 01-780 Filed 1-5-01; 4:27 pm]

BILLING CODE 6350-01-U